DEPARTMENT OF THE INTERIOR

Fish and Wildlife Service

[FWS-R1-ES-2014-N017; FXES11130100000-145-FF01E00000]

Endangered Species; Issuance of Permits

AGENCY: Fish and Wildlife Service, Interior.

ACTION: Notice of issuance of permits.

SUMMARY: We, the U.S. Fish and Wildlife Service, have issued the following permits to conduct certain activities with endangered species under the authority of the Endangered Species Act, as amended (Act).

ADDRESSES: Program Manager for Restoration and Endangered Species Classification, Ecological Services, U.S. Fish and Wildlife Service, Pacific Regional Office, 911 NE. 11th Avenue, Portland, OR 97232-4181.

FOR FURTHER INFORMATION CONTACT: Colleen Henson, Fish and Wildlife Biologist, at the above address or by telephone (503-231-6131) or fax (503-231-6243).

SUPPLEMENTARY INFORMATION: We have issued the following permits to conduct activities with endangered species in response to recovery and interstate commerce permit applications we received under the authority of section 10 of the Act (16 U.S.C. 1531 et seq.). These permits were issued between July 1 and December 31, 2013. Each permit listed below was issued only after we determined that it was applied for in good faith; that granting the permit would not be to the disadvantage of the listed species; that the proposed activities were for scientific research or would benefit the recovery or the enhancement of survival of the species, and that the terms and conditions of the permit were consistent with the purposes and policy set forth in the Act.

Applicant | Permit No. | Date issued | Date expires
Bonneville Power Administration | 037151 | 07/31/2013 | 06/30/2014
Bureau of Land Management | 005901 | 12/09/2013 | 10/14/2016
Directorate of Public Works, U.S. Army | 043638 | 09/30/2013 | 12/18/2015
Ha, Renee Robinette | 09155B | 10/31/2013 | 10/30/2016
Hammond, Paul C | 212061 | 07/03/2013 | 05/25/2017
Hawaii Volcanoes National Park | 018078 | 07/03/2013 | 06/27/2016
Hoku'akua, LLC | 07458B | 11/18/2013 | 11/17/2018
Lomnicky, Gregg A | 103595 | 08/29/2013 | 08/28/2017
NOAA/NMFS Pacific Islands Fisheries Science Center | 72088A | 07/15/2013 | 12/31/2017
Rock, Dennis F | 99618A | 08/29/2013 | 03/12/2014
U.S. Geological Survey | 08551B | 07/15/2013 | 12/31/2016
USDA Forest Service | 010354 | 07/08/2013 | 05/23/2017
USDA Forest Service, Institute of Pacific Islands Forestry | 06459B | 11/18/2013 | 11/17/2017

Availability of Documents

Documents and other information submitted with these applications are available for review, subject to the requirements of the Privacy Act and Freedom of Information Act, by any party who submits a written request for a copy of such documents (see FOR FURTHER INFORMATION CONTACT).

Authority

We provide this notice under the authority of section 10 of the Act (16 U.S.C. 1531 et seq.).

Dated: January 22, 2014.
Richard Hannan,
Acting Regional Director, Pacific Region, U.S. Fish and Wildlife Service.

[FR Doc. 2014-01717 Filed 1-28-14; 8:45 am]

BILLING CODE 4310-55-P